DEPARTMENT OF ENERGY

Federal Energy Regulatory Commission

[Docket No. TS05-11-000; Docket No. TS05-15-000; Docket No. TS05-14-000; Docket No. TS05-4-000; Docket No. TS04-248-001; Docket No. TS05-13-000; Docket No. TS04-234-001; Docket No. TS05-3-000; Docket No. TS04-260-001]

Cinergy Services, Inc.; Discovery Gas Transmission LLC; Gulf South Pipeline Company, LP; Islander East Pipeline Company, L.L.C.; National Fuel Gas Supply Corporation ; NGO Transmission, Inc.; SCG Pipeline, Inc.; Texas Eastern Transmission, LP; Williston Basin Interstate Pipeline Company; Notice of Filings

June 16, 2005.

Between October 2004 and May 2005, each of the above captioned Transmission Providers submitted individual pleadings or compliance filings with respect to the Standards of Conduct under Order No. 2004.

Any person desiring to intervene or to protest any of these filings must file separately in each proceeding accordance with Rules 211 and 214 of the Commission's Rules of Practice and Procedure (18 CFR 385.211, 385.214). Protests will be considered by the Commission in determining the appropriate action to be taken, but will not serve to make protestants parties to the proceedings. Any person wishing to become a party must file a notice of intervention or motion to intervene, as appropriate, in each individual proceeding. Such notices, motions, or protests must be filed on or before the comment date. Anyone filing a motion to intervene or protest must serve a copy of that document on the Applicant. On or before the comment date, it is not necessary to serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. eastern time on June 30, 2005.

Linda Mitry,
Deputy Secretary.

[FR Doc. E5-3374 Filed 6-28-05; 8:45 am]

BILLING CODE 6717-01-P